DEPARTMENT OF TRANSPORTATION

Coast Guard

33 CFR Part 110

[CGD01-02-027]

RIN 2115-AA98

Anchorage Grounds; Frenchman Bay, Bar Harbor, ME

AGENCY: Coast Guard, DOT.

ACTION: Notice of proposed rulemaking.

SUMMARY: The Coast Guard proposes to establish two anchorage grounds in Frenchman Bay near Bar Harbor, Maine. This action is necessary to provide designated anchorage grounds on Frenchman Bay thereby facilitating safe and secure anchorages, and improved Captain of the Port & Harbormaster coordination and management of congested harbor areas for an increasing number of large passenger vessels calling on the Port of Bar Harbor. This action is intended to increase safety for vessels through enhanced voyage planning and also by clearly indicating the location of anchorage grounds for ships proceeding along the Frenchman Bay Recommended Route for Deep Draft vessels.

DATES: Comments and related material must reach the Coast Guard on or before October 7, 2002.

ADDRESSES: Comments should be mailed to: Commander (oan) (CGD01-02-027), First Coast Guard District, 408 Atlantic Ave., Boston, Massachusetts 02110, or deliver them to room 628 at the same address between 8 a.m. and 3 p.m., Monday through Friday, except Federal holidays. The Office of Aids to Navigation Branch, First Coast Guard District maintains the public docket for this rulemaking. Comments, and documents as indicated in this preamble, will become part of this docket and will be available for inspection or copying at room 628, First Coast Guard District Boston, between 8 a.m. and 3 p.m., Monday through Friday, except Federal holidays.

FOR FURTHER INFORMATION CONTACT: Mr. J.J. Mauro, Commander (oan), First Coast Guard District, 408 Atlantic Ave., Boston, MA 02110, at (617) 223-8355.

SUPPLEMENTARY INFORMATION:

Request for Comments

The Coast Guard encourages interested persons to participate in this rulemaking by submitting comments and related material. Persons submitting comments should include their names and addresses, identify the docket number for this rulemaking (CGD01-02-027), indicate the specific section of this document to which each comment applies, and give the reason for each comment. Please submit all comments and related material in an unbound format, no larger than 8½ by 11 inches, suitable for copying. Persons wanting acknowledgment of receipt of comments should enclose stamped, self-addressed postcards or envelopes. We will consider all comments and material received during the comment period. We may change this proposed rule in view of the comments received.

Public Meeting

The Coast Guard plans no public hearing. Persons may request a public hearing by writing to the Office of Aids to Navigation Branch at the Address under ADDRESSES. The request should include the reasons why a hearing would be beneficial. If we determine that the opportunity for oral presentations will aid this rulemaking, we will hold a public hearing at a time and place announced by a later notice in the Federal Register.

Background and Purpose

In November 1999, the Maine Department of Transportation contracted with a local firm to produce a cruise ship traffic demand management study for the Town of Bar Harbor, Maine. One of the purposes was to develop a scheduling and reservation system for arriving cruise ships so that Town facilities would not be overburdened. The study included basic research into the history and outcomes of past cruise ship visits, observation of present cruise ship operations and anchorages. Based on the findings and recommendations of this study, the Penobscot Bay and River Pilots Association has requested that the Coast Guard establish two Federal anchorage grounds in Frenchman Bay near Bar Harbor, Maine.

Presently, there are no designated anchorage grounds in this area. The locations traditionally used for anchorage of large vessels calling on Bar Harbor are situated north and south of Bar Island. The proposed size and shape of the anchorage grounds are minimal. The proposed size and shape make best use of available water, designating anchorage locations for both large and small vessels, thereby reducing the amount of vessels anchored in and transiting through the harbor. These proposed anchorage locations would make the harbor safer given the large amount of current vessel traffic along with the foreseen increased use of this waterway.

In developing this proposed rule, the Coast Guard has consulted with the Army Corps of Engineers, Northeast, located at 696 Virginia Rd., Concord, MA 01742.

This rule does not intend to exclude fishing activity or the transit of vessels in the anchorage grounds. The Coast Guard anticipates the proposed anchorage grounds would cause minimal transit interference, by way of increased vessel anchorage.

Discussion of Proposed Rule

The rule creates two new anchorage grounds. Anchorage “A” (general) would be that portion of Frenchman Bay, Bar Harbor, ME enclosed by a rhumb line connecting the following points:

Latitude | Longitude
44°23′43″N | 068°11′00″W; thence to
44°23′52″N | 068°11′22″W; thence to
44°23′23″N | 068°10′59″W; thence to
44°23′05″N | 068°11′32″W; returning to start.

Anchorage “B” (general-primarily intended for vessels 200 feet and longer) would be that portion of Frenchman's Bay, Bar Harbor, ME enclosed by a rhumb line connecting the following points:

Latitude | Longitude
44°24′33″N | 068°13′09″W; thence to
44°24′42″N | 068°11′47″W; thence to
44°24′11″N | 068°11′41″W; thence to
44°23′02″N | 068°13′03″W; returning to start.

All proposed coordinates are North American Datum 1983. This proposal will significantly enhance safety of navigation and efficiency for large passenger vessels calling on the Port of Bar Harbor. Additionally, the new anchorage grounds would relieve some of the overcrowding in the existing Bar Harbor waterfront by reducing vessel anchorage and transit within the waterfront area thus further increasing vessel safety.

The rule would also increase vessel safety by providing the Captain of the Port vessel coordination capabilities. Vessels must be capable of moving with reasonable promptness when ordered by the Captain of the Port.

Regulatory Evaluation

This proposed regulation is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10(e) of the regulatory policies and procedures of DOT is unnecessary.

This conclusion is based upon the fact that there are no fees, permits, or specialized requirements for the maritime industry to utilize these anchorage areas. The regulation is solely for the purpose of advancing the safety of maritime commerce.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. This proposed rule should have minimal economic impact on lobster fishing vessels and recreational boaters. This conclusion that the proposed rule should have a minimal economic impact on small entities is based upon the fact that there are no restrictions for entry or use of the proposed anchorage targeting small entities. The proposed regulation creates only two new anchorage areas; it does not govern its usage.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact John J. Mauro at the address listed in ADDRESSES above.

Collection of Information

This proposed rule would call for no new collection of information under the Paperwork Reduction Act of 1995 (44 U.S.C. 3501-3520).

Federalism

The Coast Guard has analyzed this proposed rule under Executive Order 13132, Federalism, and has determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

The Coast Guard has analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this proposed rule and concluded that, under figure 2-1, paragraph (34)(f) of Commandant Instruction M16475.1D, this proposed rule is categorically excluded from further environmental documentation. A “Categorical Exclusion Determination” is available in the docket where indicated under ADDRESSES.

This rule proposes creating two new anchorage areas to the east of Bar Harbor. These designated anchorages would enhance the safety in the waters of Frenchman Bay, Maine by relieving vessel congestion within the bay. Thus, these two designated anchorages would provide a safer approach for deep draft vessels.

List of Subjects in 33 CFR Part 110

Anchorage grounds.

For the reasons set forth in the preamble, the Coast Guard proposes to amend 33 CFR part 110 as follows:

PART 110—ANCHORAGE REGULATIONS

1. The authority citation for part 110 continues to read as follows:

Authority: 33 U.S.C. 471, 1221 through 1236, 2030, 2035, 2071; 49 CFR 1.46 and 33 CFR 1.05-1(g).

§§ 110.130 through 110.134 [Redesignated]

2. Redesignate § 110.130 through § 110.134 as follows:

Old section | New section
§ 110.130 | 110.132
§ 110.131 | 110.133
§ 110.132 | 110.134
§ 110.133 | 110.136
§ 110.134 | 110.138

3. Add § 110.130 to Part 110, Subpart B, to read as follows:

§ 110.130 Bar Harbor, Maine.

(a) Anchorage grounds. (1) Anchorage “A” is that portion of Frenchman Bay, Bar Harbor, ME enclosed by a rhumb line connecting the following points:

Latitude | Longitude
44°23′43″N | 068°11′00″W; thence to
44°23′52″N | 068°11′22″W; thence to
44°23′23″N | 068°10′59″W; thence to
44°23′05″N | 068°11′32″W; returning to start.

(2) Anchorage “B” is that portion of Frenchman Bay, Bar Harbor, ME enclosed by a rhumb line connecting the following points:

Latitude | Longitude
44°24′33″N | 068°13′09″W thence to
44°24′42″N | 068°11′47″W thence to
44°24′11″N | 068°11′41″W thence to
44°23′02″N | 068°13′03″W returning to start.

(b) Regulations. (1) Anchorage A is a general anchorage ground reserved for passenger vessels, small commercial vessels and pleasure craft. Anchorage B is a general anchorage ground reserved primarily for passenger vessels 200 feet and greater.

(2) These anchorage grounds are authorized for use year round.

(3) Temporary floats or buoys for marking anchors will be allowed in all anchorage areas.

(4) Fixed moorings, piles or stakes are prohibited.

(5) Any vessels anchored in this area shall be capable of moving and when ordered to move by the Captain of the Port shall do so with reasonable promptness.

(6) The anchoring of vessels is under the coordination of the local Harbormaster.

Dated: June 21, 2002.
V.S. Crea,
Rear Admiral, U.S. Coast Guard, Commander, First Coast Guard District.

[FR Doc. 02-17003 Filed 7-5-02; 8:45 am]

BILLING CODE 4910-15-P